NATIONAL CREDIT UNION ADMINISTRATION

Renewal of Agency Information Collections for Comments Request: Proposed Collections

AGENCY: National Credit Union Administration (NCUA).

ACTION: Notice and request for comments.

SUMMARY: The National Credit Union Administration (NCUA) will submit the following information collection request to the Office of Management and Budget (OMB) for review and clearance in accordance with the Paperwork Reduction Act of 1995, on or after the date of publication of this notice.

DATES: Written comments should be received on or before June 23, 2025 to be assured consideration.

ADDRESSES: Interested persons are invited to submit written comments on the information collection to Dacia Rogers, National Credit Union Administration, 1775 Duke Street, Alexandria, Virginia 22314, Suite 6070; Fax No. (703) 519-8161; or email at PRAComments@NCUA.gov.

FOR FURTHER INFORMATION CONTACT: Copies of the submission may be obtained by contacting Dacia Rogers at (703) 518-6547.

SUPPLEMENTARY INFORMATION:

OMB Number: 3133-0209.

Title: NCUA Template—Large Credit Union Data Collection.

Type of Review: Extension without change of a currently approved collection.

Abstract: The NCUA issued regulation under 12 CFR part 702, subpart C, “Capital Planning and Stress Testing” regarding capital planning and stress testing for federally insured credit unions with $10 billion or more in assets and supervised by Office of National Examinations and Supervision (covered credit unions). The rule authorizes covered credit unions to conduct stress tests in accordance with the NCUA's requirements. Section § 702.306 provides for the necessary requirements for those credit unions to conduct supervisory stress tests. The “NCUA Template—Large Credit Union Data Collection” was developed for the credit unions to provide NCUA with the specific data needed to evaluate their internal assessments of capital adequacy and to ensure their capital resources are sufficient.

Affected Public: Private Sector: Not-for-profit institutions.

Estimated Total Annual Burden Hours: 3,740.

Request for Comments: Comments submitted in response to this notice will be summarized and included in the request for Office of Management and Budget approval. All comments will become a matter of public record. The public is invited to submit comments concerning: (a) whether the collection of information is necessary for the proper performance of the function of the agency, including whether the information will have practical utility; (b) the accuracy of the agency's estimate of the burden of the collection of information, including the validity of the methodology and assumptions used; (c) ways to enhance the quality, utility, and clarity of the information to be collected; and (d) ways to minimize the burden of the collection of the information on the respondents, including the use of automated collection techniques or other forms of information technology.

By the National Credit Union Administration Board.
Melane Conyers-Ausbrooks,
Secretary of the Board.

[FR Doc. 2025-06965 Filed 4-22-25; 8:45 am]

BILLING CODE 7535-01-P